DEPARTMENT OF COMMERCE

Foreign-Trade Zones Board

[Docket 52-2011]

Foreign-Trade Zone 163—Ponce, Puerto Rico Application for Expansion

An application has been submitted to the Foreign-Trade Zones Board (the Board) by CODEZOL, C.D., grantee of FTZ 163, requesting authority to expand the zone in Caguas and Ponce, Puerto Rico. The application was submitted pursuant to the provisions of the Foreign-Trade Zones Act, as amended (19 U.S.C. 81a-81u), and the regulations of the Board (15 CFR part 400). It was formally filed on August 9, 2011.

FTZ 163 was established by the Board on October 18, 1989 (Board Order 443, 54 FR 46097, 11/1/89), and expanded on April 18, 2000 (Board Order 1091, 65 FR 24676, 4/27/00), on June 9, 2005 (Board Order 1397, 70 FR 36117, 6/22/05), on July 26, 2006 (Board Order 1467, 71 FR 44996, 8/8/06), on November 9, 2006 (Board Order 1487, 71 FR 67098, 11/20/06), on June 26, 2009 (Board Order 1631, 74 FR 34306-34307, 7/15/09), and on July 8, 2010 (Board Orders 1692 and 1693, 75 FR 41801, 7/19/10).

The zone project currently consists of fifteen sites (917.70 acres total) in Puerto Rico: Site 1 (269 acres, 5 parcels)—within the Port of the Americas located at the Port of Ponce, at 3309 Avenida Santiago de los Caballeros, at Percon Industrial Park, at Phase 3A 100% and at Bayland, Ponce; Site 2 (183.8 acres, 5 parcels)—Peerless Oil & Chemicals, Inc., petroleum terminal facilities in Peñuelas and Guaynilla; Site 3 (3 acres)—Hato Rey Distribution Center, located at Angel Buonoma Street #361 and #71, San Juan; Site 4 (14 acres)—Centro Automatriz Santa Rosa, Inc., State Road No. 3, Km 140.1, Guayama; Site 5 (256 acres)—Mercedita Industrial Park, Rt. PR-9 and Las Americas Highway, Ponce; Site 6 (86 acres)—Coto Laurel Industrial Park, Highways PR-56 and PR-52, Ponce; Site 7 (17.2 acres)—Cesar Castillo warehouse, State Road No. 1, Km 21.1, Guaynabo; Site 8 (5 acres)—Ayala Warehouse, Inc., 42 Salmon Street, Ponce; Site 9 (6 acres, sunset 11/1/2011)—warehouse facility, PR Highway 2, Km 165.2, Hormigueros; Site 10 (5.83 acres, sunset 6/30/2014)—Colomer & Suarez, Inc., Centro de Distribucion Playa de Ponce, Building 7, Avenida Santiago de los Caballeros, Ponce; Site 11 (52 acres, sunset 6/30/2015)—ProCaribe, Road 385, Km 5.4, Bo. Tallaboa, Peñuelas; Site 12 (5.97 acres, sunset 6/30/2015)—Yaucono Industrial Park, 2822 Las Americas Avenue, Corner Cuatro Calles, Ponce; Site 13 (10 acres)—Rio Piedras Distribution Center, Quebrada Arena Industrial Park, PR Road #1, Km 26.0, San Juan; Site 14 (2.1 acres, expires 5/31/2012)—Caribe Rx Industrial Park, PR Road #1, Km 39.9, Bo. Turabo, Caguas; and Site 15 (1.8 acres, expires 5/31/2012)—Ortiz Auto Distributors Industrial Park, Baiora Industrial Subdivision Lot F, Road 189, Km 2.0, Caguas.

The applicant is requesting authority to expand the zone to include existing Sites 14 and 15 on a permanent basis and to include an additional site: Proposed Site 16 (5.66 acres)—warehouse facilities of Destilería Serrallés, Inc., located within Reparto Industrial Reparada, Calle B Lots 5 and 6, Barrio Canas, Playa de Ponce, Ponce. The sites will provide public warehouse and distribution services to area businesses. No specific manufacturing authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is October 14, 2011. Rebuttal comments in response to material submitted during the foregoing period may be submitted during the subsequent 15-day period to October 31, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Camille Evans at Camille.Evans@trade.gov or (202) 482-2350.

Dated: August 9, 2011.
Andrew McGilvray,
Executive Secretary.

[FR Doc. 2011-20729 Filed 8-12-11; 8:45 am]

BILLING CODE P